NUCLEAR REGULATORY COMMISSION

[Docket No. 70-1374-MLR; ASLBP No. 10-897-01-MLR-BD01]

Idaho State University; Establishment of Atomic Safety and Licensing Board

Pursuant to delegation by the Commission dated December 29, 1972, published in the Federal Register, 37 FR 28,710 (1972), and the Commission's regulations, see 10 CFR 2.104, 2.105, 2.300, 2.313, 2.318, and 2.321, notice is hereby given that an Atomic Safety and Licensing Board (Board) is being established to preside over the following proceeding:

Idaho State University

This proceeding concerns a Petition to Intervene submitted by Dr. Kevan Crawford in response to a Federal Register Notice published on November 13, 2009 (74 FR 58,656), which provided an opportunity for hearing with respect to a revised application from Idaho State University requesting renewal of its Special Nuclear Materials License.

The Board is comprised of the following administrative judges:

Alan S. Rosenthal, Chair, Atomic Safety and Licensing Board Panel, U.S. Nuclear Regulatory Commission, Washington, DC 20555-0001;

Nicholas G. Trikouros, Atomic Safety and Licensing Board Panel, U.S. Nuclear Regulatory Commission, Washington, DC 20555-0001;

Jeffrey D.E. Jeffries, Atomic Safety and Licensing Board Panel, U.S. Nuclear Regulatory Commission, Washington, DC 20555-0001.

All correspondence, documents, and other materials shall be filed in accordance with the NRC E-filing rule, which the NRC promulgated in August 2007 (72 FR 49139).

Issued at Rockville, Maryland, this 1st day of February 2010.
E. Roy Hawkens,
Chief Administrative Judge, Atomic Safety and Licensing Board Panel.

[FR Doc. 2010-2553 Filed 2-4-10; 8:45 am]

BILLING CODE 7590-01-P